FEDERAL COMMUNICATIONS COMMISSION

Information Collection Being Reviewed by the Federal Communications Commission

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before September 3, 2013. If you anticipate that you will be submitting PRA comments, but find it difficult to do so within the period of time allowed by this notice, you should advise the FCC contact listed below as soon as possible.

ADDRESSES: Submit your PRA questions to Judith B. Herman, Federal Communications Commission. To submit your PRA comments by email send them to: PRA@fcc.gov.

FOR FURTHER INFORMATION CONTACT: Judith B. Herman, Office of Managing Director, (202) 418-0214.

SUPPLEMENTARY INFORMATION:

OMB Control Number: 3060-0853.

Title: Certification by Administrative Authority to Billed Entity Compliance with the Children's Internet Protection Act Form; Certification of Compliance with the Children's Internet Protection Act and Technology Plan Requirements Form; and Funding Commitment Adjustment Request Form.

Form Numbers: FCC Forms 479, 486 and 500.

Type of Review: Revision of a currently approved collection.

Respondents: Business or other for-profit, not-for-profit institutions, and state, local or tribal government.

Number of Respondents and Responses: 90,700 respondents; 90,700 responses.

Estimated Time per Response: 1-1.5 hours.

Frequency of Response: On occasion and annual reporting requirements, recordkeeping requirement and third party disclosure requirement.

Obligation to Respond: Required to obtain or retain benefits. Statutory authority for this information collection is contained in 47 U.S.C. sections 151-154, 201-205, 218-220, 254, 303(r), 403, and 405.

Total Annual Burden: 104,650 hours.

Total Annual Cost: NA.

Privacy Act Impact Assessment: N/A.

Nature and Extent of Confidentiality: The Commission is not requesting that respondents submit confidential information to the Commission. If the Commission requests applicants to submit information that the respondents believe is confidential, respondents may request confidential treatment of their information under 47 CFR 0.459 of the Commission's rules.

Needs and Uses: The Commission will submit this information collection to the Office of Management and Budget (OMB) as a revision to a currently approved collection. This submission revises the FCC Form 479 and instructions, FCC Form 486 and instructions, and FCC Form 500 and instructions. FCC Forms 479 and 486 include revisions to existing certifications to improve clarity and ensure consistency with the Commission's rules. FCC Form 500 includes revisions that allow applicants the option to use the FCC Form 500 to: (1) seek extensions of the implementation deadline for non-recurring services from the Universal Service Administrative Company (USAC) under 47 CFR 54.507(d) of the Commission's rules; and/or (2) notify USAC when they are transferring equipment within the three year prohibition on equipment transfers due to a permanent or temporary closure of school or library facilities under 47 CFR 54.413 of the Commission's rules.

The Commission requests a total hourly burden change for FCC Forms 479, 486 and 500 from 70,000 burden hours to 104,650 burden hours, which is an increase of 34,650 burden hours. We made adjustments in the burden hours for each of these forms to account for updated information received from the Universal Service Administrative Company, the administrator of the schools and libraries universal service support program. This estimate is based on actual participation in the program. Specifically, for the FCC Form 479, the Commission estimates that the number of respondents has increased from 10,000 to 10,300 based on the number of consortia participants for funding year 2011 and 2012 reported by USAC. For the FCC Form 486, the Commission estimates that the number of respondents has increased from 30,000 to 38,500 based on the increased number of submitted FCC Forms 486 as reported by USAC. For the FCC Form 500, the Commission increased the number of respondents from 5,000 to 6,900 based on the actual FCC Forms 500 submitted in funding year 2011 as reported by USAC and to account for the potential transfer of the requirements covered by information collections for OMB Control Numbers 3060-0992 and 3060-1062 to this information collection. The requirements covered by these collections are being moved to the FCC Form 500, and OMB Control Numbers 3060-0992 and 3060-1062 will be discontinued once this revision is approved. The burden hours were also adjusted to reflect the Commission's revised estimates of the hours required to update and maintain Internet safety policies. The Commission adjusts the number of respondents from 30,000 to 35,000 and adjusts the burden hours per response from .25 to .75. The Commission estimates that the number of respondents should be adjusted based on inclusion of the number of respondents for both the FCC Form 479 and FCC Form 486. The Commission estimates the initial year of compliance with the schools-only requirement to update Internet safety policies to provide for education of minors about appropriate online behavior, including interacting with other individuals on social networking Web sites and in chat rooms and cyber bullying awareness and response (as required by the Protecting Children in the 21st Century Act) will require .75 burden hours per response. This is an adjustment from the previously reported estimate of .25 burden hours per response.

The three FCC forms serve the functions of the Universal Service Schools and Libraries Support Mechanism, 47 U.S.C. 254 of the Communications Act of 1934, as amended. They are used at the point where services provided to the program are implemented, or are about to be implemented, and are a necessary prerequisite to the distribution of payments under the program.

FCC Forms 479 and 486 enable participants in the program to certify that they are compliant with the Children's Internet Protection Act (CIPA), 47 U.S.C. section 254 (h) and (l) when they seek discounts for Internet access, internal connections and basic maintenance of internal connections. With the exception of program participants who receive only telecommunications services, CIPA compliance is a necessary prerequisite to invoicing and payment. CIPA provides that schools and libraries that have computers with Internet access must certify that they have in place certain Internet safety policies and technology protection measures in order to be eligible to receive program services under section 254(h) of the Communications Act of 1934 (the Act), as amended. 47 CFR 54.520. FCC Form 486 also is the form that school and library applicants use to notify USAC of their service start date and certify compliance with E-rate program technology plan requirements.

School and library applicants use the FCC Form 500 to make adjustments to previously filed forms, such as changing the contract expiration date filed with the FCC Form 471, changing the funding year service start date filed with the FCC Form 486, or cancelling or reducing the amount of funding commitments.

All of the requirements contained in this information collection are necessary to implement the congressional mandates regarding access to the Internet by minors and adults as well as the schools and libraries universal service support program and reimbursement process.

Federal Communications Commission.
Gloria J. Miles,
Federal Register Liaison, Office of the Secretary, Office of Managing Director.

[FR Doc. 2013-16146 Filed 7-3-13; 8:45 am]

BILLING CODE 6712-01-P